Title 3—

The President

Proclamation 10876 of December 29, 2024

Announcing the Death of James Earl Carter, Jr.

By the President of the United States of America

A Proclamation

TO THE PEOPLE OF THE UNITED STATES:

It is my solemn duty to announce officially the death of James Earl Carter, Jr., the thirty-ninth President of the United States, on December 29, 2024.

President Carter was a man of character, courage, and compassion, whose lifetime of service defined him as one of the most influential statesmen in our history. He embodied the very best of America: A humble servant of God and the people. A heroic champion of global peace and human rights, and an honorable leader whose moral clarity and hopeful vision lifted our Nation and changed our world.

The son of a farmer and a nurse, President Carter's remarkable career in public service began in 1943 as a cadet at the United States Naval Academy. He later served in both the Atlantic and Pacific fleets before becoming a decorated lieutenant and being selected to join the elite nuclear submarine program.

After his father died, he shifted from active duty to the Navy Reserve and returned home to Plains, Georgia, to help manage his family's peanut farm. He worked hard stewarding the land while leading his community as a church deacon, Sunday school teacher, and board member of a hospital and library. His deep faith inspired a passion for public service that led him to be elected State Senator, Georgia's 76th Governor, and ultimately President of the United States.

As President, he understood that Government must be as good as its people—and his faith in the people was boundless just as his belief in America was limitless and his hope for our common future was perennial.

With President Carter's leadership, the modern Department of Education and the Department of Energy were created. He championed conservation, and his commitment to a more just world was at the heart of his foreign policy, leading on nuclear nonproliferation, signing the Panama Canal treaties, and mediating the historic 1978 Camp David Accords. His partnership with Vice President Walter Mondale is one that future administrations strived to achieve.

Following his Presidency, President Carter advanced an agenda that elevated the least among us. Guided by an unwavering belief in the power of human goodness and the God-given dignity of every human being, he worked tirelessly around the globe to broker peace; eradicate disease; house the homeless; and protect human rights, freedom, and democracy.

Through his extraordinary moral leadership, President Carter lived a noble life full of meaning and purpose. And as a trusted spiritual leader, he shepherded people through seasons of pain and joy, inspiring them through the power of his example and healing them through the power of his guidance.

As we mourn the loss of President Carter, we hold the memory of his beloved Rosalynn, his wife of over 77 years, close in our hearts. Exemplifying hope, warmth, and service, she and her husband inspired the Nation. The love Rosalynn and President Carter shared is the definition of partnership, and their devotion to public service is the definition of patriotism.

May President Carter's memory continue to be a light pointing us forward. May we continue to be guided by his spirit in our Nation and in our world.

NOW, THEREFORE, I, JOSEPH R. BIDEN JR., President of the United States of America, by the authority vested in me by the Constitution and the laws of the United States, in honor and tribute to the memory of President James Earl Carter, Jr., and as an expression of public sorrow, do hereby direct that the flag of the United States be displayed at half-staff at the White House and on all public buildings and grounds, at all military posts and naval stations, and on all naval vessels of the Federal Government in the District of Columbia and throughout the United States and its Territories and possessions for a period of 30 days from the day of his death. I also direct that, for the same length of time, the representatives of the United States in foreign countries shall make similar arrangements for the display of the flag at half-staff over their embassies, legations, consular offices, and other facilities abroad, including all military facilities and naval vessels and stations.

I hereby order that suitable honors be rendered by units of the Armed Forces under orders of the Secretary of Defense.

I do further appoint January 9, 2025, as a National Day of Mourning throughout the United States. I call on the American people to assemble on that day in their respective places of worship, there to pay homage to the memory of President James Earl Carter, Jr. I invite the people of the world who share our grief to join us in this solemn observance.

IN WITNESS WHEREOF, I have hereunto set my hand this twenty-ninth day of December, in the year of our Lord two thousand twenty-four, and of the Independence of the United States of America the two hundred and forty-ninth.

[FR Doc. 2024-31762

Filed 1-2-25; 8:45 am]

Billing code 3395-F4-P